DEPARTMENT OF THE INTERIOR

National Park Service

[NPS-NERO-PAGR-24368: PX.PR166532I.00.1]

Cancellation of the October 12, 2017, Meeting of the Paterson Great Falls National Historical Park Advisory Commission

AGENCY: National Park Service, Interior.

ACTION: Cancellation of meeting.

SUMMARY: In accordance with the Federal Advisory Committee Act, notice is hereby given that the October 12, 2017, meeting of the Paterson Great Falls National Historical Park Advisory Commission previously announced in the Federal Register, Vol. 81, December 9, 2016, pp. 89145-89146, is cancelled.

FOR FURTHER INFORMATION CONTACT: Further information concerning meetings may be obtained from Darren Boch, Superintendent and Designated Federal Officer, Paterson Great Falls National Historical Park, 72 McBride Avenue, Paterson, New Jersey 07501, (973) 523-2630 or email darren_boch@nps.gov.

SUPPLEMENTARY INFORMATION: The 9-member Commission was established by 16 U.S.C. 410lll(e). The purpose of the Commission is to advise the Secretary of the Interior in the development and implementation of the management plan.

Alma Ripps,
Chief, Office of Policy.

[FR Doc. 2017-23169 Filed 10-24-17; 8:45 am]

BILLING CODE 4312-52-P